DEPARTMENT OF THE INTERIOR

National Park Service

National Register of Historic Places; Notification of Pending Nominations and Related Actions

Nominations for the following properties being considered for listing or related actions in the National Register were received by the National Park Service before July 18, 2009.

Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by August 17, 2009.

J. Paul Loether,
Chief, National Register of Historic Places/National Historic Landmarks Program.

MARYLAND

Baltimore County

Baltimore County Jail, 222 Courthouse Court, Towson, 09000644

Kent County

Still Pond Historic District, Still Pond Rd., Old Still Pond Rd., Main St., Medders Rd., Maple Ave., Trustee St., Still Pond, 09000645

MASSACHUSETTS

Norfolk County

Sea Street Historic District, Roughly bounded by Bridge, North, Neck Sts., Crescent Rd., Pearl St. and rear of Standish St., Weymouth, 09000646

Plymouth County

Tarklin School, 245 Summer St., Duxbury, 09000647

MISSOURI

Cape Girardeau County

Old Appleton Bridge, Main St. over Apple Creek, Old Appleton, 09000648

Perry County

Old Appleton Bridge, Main St. over Apple Creek, Old Appleton, 09000648

NEBRASKA

Douglas County

Northern Natural Gas Building, 2223 Dodge St., Omaha, 09000649

Merrick County

Nelson Farm, Address Restricted, Central City, 09000650

NEW JERSEY

Burlington County

Zurburgg Mansion, 531 Delaware Ave., Delanco, 09000651

Hunterdon County

Lebanon Historic District, Main St., Cherry St., Brunswick Ave., Maple St., High St., Lebanon Borough, 09000652

Sussex County

Casper and Abraham Shafer Grist Mill Complex, 928 Main St., Stillwater Township, 09000653

NEW YORK

Chenango County

Emmanuel Episcopal Church Complex, 37 W. Main St., Norwich, 09000654

Monroe County

Linden-South Historic District, 25-272 Linden St., both sides; 809-835 South Ave., odd numbers only, Rochester, 09000655

Suffolk County

Foster-Meeker House, 101 Mill Rd., Westhampton Beach, 09000656

Tompkins County

Rogues Harbor Inn, 2079 E. Shore Dr., Lansing, 09000657

NORTH CAROLINA

Edgecombe County

Rocky Mount Central City Historic District (Boundary Increase and Decrease), Portions of 26 blocks on Main, Washington, Church, Battle, Hammond, Hill, Howard, Ivy, Gay, Goldleaf, and Thomas Sts., Rocky Mount, 09000659

Greene County

Snow Hill Historic District (Boundary Increase), W. Harper St. between W. 6th St. and W. 4th St., Snow Hill, 09000658

Nash County

Rocky Mount Central City Historic District (Boundary Increase and Decrease), Portions of 26 blocks on Main, Washington, Church, Battle, Hammond, Hill, Howard, Ivy, Gay, Goldleaf, and Thomas Sts., Rocky Mount, 09000659

Person County

Roxboro Cotton Mill, 115 Lake Dr., Roxboro, 09000660

Wake County

Carolina Coach Garage and Shop, 510 E. Drive St., Raleigh, 09000661

Wayne County

Yelverton, Dred and Ellen, House, 1979 NC 222 E., Fremont, 09000662

TENNESSEE

Greene County

Maden Hall Farm, 3225 Kingsport Highway, Greeneville, 09000667

VIRGINIA

Culpeper County

South East Street Historic District, S. E., E. Asher, E. Chandler, and Page Sts., and Culpeper National Cemetery, Culpeper, 09000663

Loudoun County

Rock Hill Farm, 20775 Airmont Rd., Bluemont, 09000664

Petersburg Independent city

Atlantic Coast Line Railroad Commercial and Industrial Historic District, 200-300 W. Washington, 4-42 S. Market, 100-100 Perry, 200-300 block W. Wythe, 200 block Brown Sts., Petersburg, 09000665

Roanoke County

Anderson-Doosing Farm, 7474 VA 785, Catawba, 09000666

[FR Doc. E9-18359 Filed 7-30-09; 8:45 am]

BILLING CODE P